DEPARTMENT OF DEFENSE

Department of the Army

Announcement of Intent To Grant an Exclusive License for a U.S. Army-Owned Patent Application and All Patents Resulting Therefrom Worldwide, Including All Foreign Counterpart Applications

AGENCY: Picatinny Arsenal, New Jersey, DoD.

ACTION: Notice.

SUMMARY: The Department of the Army announces that unless there is objection, in sixty days it will grant an Exclusive license to Bulova Technologies, L.L.C,, 101 North Queen Street, Lancaster, Pennsylvania 17604-4787, on U.S. Army Patent Application serial number 09/511,641 filed on February 22, 2000, Army docket number DAR-63-99, entitled “Improved Self Destruct Fuze For Munitions” by Louis J. Adimari, Joseph A. Donini, Keith R. Fulton, Marc E. Ball, Edward F. Cooper, John R. Hertzier, and John C. Yoo, together with all foreign counterpart patent applications, and all U.S. and worldwide patents resulting therefrom.

FOR FURTHER INFORMATION CONTACT: Mr. John Moran, Chief, Intellectual Property Law Division, AMSTA-AR-GCL, U.S. Army TACOM-ARDEC, Picatinny Arsenal, NJ 07806-5000, telephone (973) 724-6590.

SUPPLEMENTARY INFORMATION: Written objections must be filed within 60 days from publication date of this notice in the Federal Register.

John A. Hall,
Alternate Army Federal Register Liaison Officer.

[FR Doc. 00-8677 Filed 4-6-00; 8:45 am]

BILLING CODE 3710-08-M